FEDERAL MARITIME COMMISSION

Notice of Request for Additional Information

The Commission gives notice that it has requested that the parties to the below listed agreement provide additional information pursuant to section 6(d) of the Shipping Act of 1984, 46 U.S.C. app. 1701 et seq. This action prevented the agreement from becoming effective as originally scheduled. Interested parties will have fifteen days from date of publication to file comments on the agreement.

Agreement No.: 011950.

Title: HSDG/FOML Agreement.

Parties: Hamburg-Sud and FESCO Ocean Management, Limited.

By order of the Federal Maritime Commission.
Dated: April 24, 2006.
Bryant L. VanBrakle,
Secretary.

[FR Doc. E6-6350 Filed 4-26-06; 8:45 am]

BILLING CODE 6730-01-P